NUCLEAR REGULATORY COMMISSION

[Docket Nos. 50-334 and 50-412]

FirstEnergy Nuclear Operating Company, et al., Beaver Valley Power Station, Unit Nos. 1 and 2; Notice of Issuance of Amendment to Facility Operating License

The U.S. Nuclear Regulatory Commission (Commission) has issued Amendment Nos. 241 and 121 to Facility Operating License Nos. DPR-66 and NPF-73, respectively, issued to FirstEnergy Nuclear Operating Company, et al. (the licensee), which revised the Technical Specifications (TSs) and authorized revisions to the Updated Final Safety Analysis Report (UFSAR) for operation of Beaver Valley Power Station, Unit Nos. 1 and 2, located in Shippingport, Pennsylvania. The amendment is effective as of the date of issuance.

The amendment authorized revisions to the BVPS-1 and 2 UFSAR design-basis fuel handling accident (FHA) dose consequence analyses. The amendment also revised the BVPS-1 and 2 TSs associated with the requirements for handling irradiated fuel assemblies in the reactor containment and fuel building and the TS requirements associated with ensuring that UFSAR safety analysis assumptions are met for a postulated FHA. The term “recently irradiated” fuel is defined in the applicable TS Bases as “fuel that has occupied part of a critical reactor core within the previous 100 hours.” The purpose of the addition of the term “recently irradiated” throughout the TSs is to establish a point where operability of those systems typically used to mitigate the consequences of an FHA is no longer required to meet the radiation exposure limits of 10 CFR 50.67. This amendment revises the TSs to eliminate TS controls over the integrity of the fuel building and the reactor containment building and the operability of the associated building's ventilation/filtration systems after the decay period of 100 hours.

The application for the amendment complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License and Opportunity for a Hearing in connection with this action was published in the Federal Register on June 4, 2001 (66 FR 30026). No request for a hearing or petition for leave to intervene was filed following this notice.

The Commission has prepared an Environmental Assessment related to the action and has determined not to prepare an environmental impact statement. Based upon the environmental assessment, the Commission has concluded that the issuance of the amendment will not have a significant effect on the quality of the human environment.

For further details with respect to the action see (1) the application for amendment dated March 19, 2001 (Agencywide Documents Access and Management System [ADAMS] Accession No. ML010810433), as supplemented by letters dated July 6 (ADAMS Accession No. ML011980423), August 8 (ADAMS Accession No. ML012260302), and August 23, 2001 (ADAMS Accession No. ML012420089), (2) Amendment Nos. 241and 121 to License Nos. DPR-66 and NPF-73, (3) the Commission's related Safety Evaluation, and (4) the Commission's Environmental Assessment, dated August 17, 2001 (ADAMS Accession No. ML012210436). Documents may be examined, and/or copied for a fee, at the NRC's Public Document Room (PDR), located at One White Flint North, 11555 Rockville Pike (first floor), Rockville, Maryland. Publicly available records will be accessible electronically from the ADAMS Public Electronic Reading Room on the internet at the NRC Web site, http://www.nrc.gov/NRC/ADAMS/index.html. Persons who do not have access to ADAMS or who encounter problems in accessing the documents located in ADAMS should contact the NRC PDR Reference staff by telephone at 1-800-397-4209, or 301-415-4737, or by e-mail at pdr@nrc.gov.

Dated at Rockville, Maryland, this 30th day of August 2001.
For the Nuclear Regulatory Commission.
Lawrence J. Burkhart,
Project Manager, Section 1, Project Directorate I, Division of Licensing Project Management, Office of Nuclear Reactor Regulation.

[FR Doc. 01-22517 Filed 9-6-01; 8:45 am]

BILLING CODE 7590-01-P